Title 3—

The President

Proclamation 8459 of November 25, 2009

World AIDS Day, 2009

By the President of the United States of America

A Proclamation

Our Nation joins the world in celebrating the extraordinary advancements we have made in the battle against HIV and AIDS, and remembering those we have lost. Over the past three decades, brave men and women have fought devastating discrimination, stigma, doubt, and violence as they stood in the face of this deadly disease. Many of them would not be here today, but for the dedication of other persons living with HIV, their loved ones and families, community advocates, and members of the medical profession. On World AIDS Day, we rededicate ourselves to developing a national AIDS strategy that will establish the priorities necessary to combat this devastating epidemic at home, and to renewing our leadership role and commitments abroad.

Though we have been witness to incredible progress, our struggle against HIV/AIDS is far from over. With an infection occurring every nine-and-a-half minutes in America, there are more than one million individuals estimated to be living with the disease in our country. Of those currently infected, one in five does not know they have the condition, and the majority of new infections are spread by people who are unaware of their own status. HIV/AIDS does not discriminate as it infiltrates neighborhoods and communities. Americans of any gender, age, ethnicity, income, or sexual orientation can and are contracting the disease.

Globally, there are over 33 million people living with HIV. While millions have died from this disease, the death rate is slowly declining due, in part, to our Nation’s global effort through the President’s Emergency Plan for AIDS Relief (PEPFAR) program. However, HIV remains a leading cause of death worldwide. Women and children around the world are particularly vulnerable due to gender inequalities, gaps in access to services, and increases in sexual violence. While the statistics are distressing, new medications and scientific advancements give us reason for hope.

Tackling this disease will take an aggressive, steadfast approach. My Administration is developing a national HIV/AIDS strategy to bolster our response to the domestic epidemic, and a global health initiative that will build on PEPFAR’s success. We will develop a strategy to reduce HIV incidence, improve access to care, and help eliminate HIV-related health disparities. We have already ensured that visitors to our shores living with HIV are not marginalized and discriminated against because of their HIV status. We have also secured the continuation of critical HIV/AIDS care and treatment services. Today, we recommit ourselves to building on the accomplishments of the past decades that have dramatically changed the domestic and global HIV/AIDS landscape.

NOW, THEREFORE, I, BARACK OBAMA, President of the United States of America, by virtue of the authority vested in me by the Constitution and the laws of the United States, do hereby proclaim December 1, 2009, as World AIDS Day. I urge the Governors of the States and the territories subject to the jurisdiction of the United States, and the American people to join in appropriate activities to remember those who have lost their lives to AIDS, and to provide support and comfort to those living with this disease.

IN WITNESS WHEREOF, I have hereunto set my hand this twenty-fifth day of November, in the year of our Lord two thousand nine, and of the Independence of the United States of America the two hundred and thirty-fourth.

[FR Doc. E9-28940

Filed 12-1-09; 11:15 am]

Billing code 3195-W0-P